DEPARTMENT OF ENERGY

Federal Energy Regulatory Commission

Combined Notice of Filings

Take notice that the Commission has received the following Natural Gas Pipeline Rate and Refund Report filings:

Filings Instituting Proceedings

Docket Numbers: RP13-1044-000.

Applicants: Algonquin Gas Transmission, LLC.

Description: Correct Typographical Error in Exhibit B to AFT-CL Service Agreement to be effective 8/1/2013.

Filed Date: 7/3/13.

Accession Number: 20130703-5041.

Comments Due: 5 p.m. e.t. 7/15/13.

Docket Numbers: RP13-1045-000.

Applicants: Gulf South Pipeline Company, LP.

Description: Amendment to Neg Rate Agmt (FPL 40097-4) to be effective 7/2/2013.

Filed Date: 7/3/13.

Accession Number: 20130703-5068.

Comments Due: 5 p.m. e.t. 7/15/13.

Docket Numbers: RP13-1046-000.

Applicants: Dominion Transmission, Inc.

Description: DTI—July 3, 2013 Nonconforming Service Agreement to be effective 8/1/2013.

Filed Date: 7/3/13.

Accession Number: 20130703-5131.

Comments Due: 5 p.m. e.t. 7/15/13.

Docket Numbers: RP13-1047-000.

Applicants: Northwest Pipeline LLC.

Description: NWP Name Change Filing to be effective 7/12/2013.

Filed Date: 7/3/13.

Accession Number: 20130703-5133.

Comments Due: 5 p.m. e.t. 7/15/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-15-006.

Applicants: Gas Transmission Northwest LLC.

Description: Compliance to RP12-15-004 to be effective 11/11/2011.

Filed Date: 7/3/13.

Accession Number: 20130703-5132.

Comments Due: 5 p.m. e.t. 7/15/13.

Docket Numbers: RP13-940-001.

Applicants: Elba Express Company, L.L.C.

Description: Net Monthly Imbalance Clarification Compliance Filing to be effective 7/1/2013.

Filed Date: 7/3/13.

Accession Number: 20130703-5040.

Comments Due: 5 p.m. e.t. 7/15/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2013.
Nathaniel J. Davis, Sr.,
Deputy Secretary.

[FR Doc. 2013-16835 Filed 7-12-13; 8:45 am]

BILLING CODE 6717-01-P